ENVIRONMENTAL PROTECTION AGENCY

[FRL-9832-6; EPA-HQ-OA-2013-0123]

Farm, Ranch, and Rural Communities Committee Teleconference

AGENCY: Environmental Protection Agency (EPA).

ACTION: Notice of Public Advisory Committee Teleconference.

SUMMARY: Under the Federal Advisory Committee Act, Public Law 92-463, EPA gives notice of a teleconference meeting of the Farm, Ranch, and Rural Communities Committee (FRRCC). The FRRCC is a policy-oriented committee that provides policy advice, information, and recommendations to the EPA Administrator on a range of environmental issues and policies that are of importance to agriculture and rural communities.

Purpose of Meeting: The purpose of this teleconference is to discuss specific topics of relevance for consideration by the Committee in order to provide advice and insights to the Agency on environmental policies and programs that affect and engage agriculture and rural communities.

DATES: The Farm, Ranch, and Rural Communities Committee will hold a public teleconference on August 8, 2013 from 1:00 p.m. until 3:00 p.m. Eastern Standard Time.

ADDRESSES: The meeting will be held at the U.S. EPA East Building, 1201 Constitution Avenue NW., Room 1132, Washington, DC 20004.

FOR FURTHER INFORMATION CONTACT: Wayne Gieselman, Acting Designated Federal Officer, gieselman.wayne@epa.gov, 202-564-6614, US EPA, Office of the Administrator (1101A), 1200 Pennsylvania Avenue NW., Washington, DC 20460.

SUPPLEMENTARY INFORMATION: Members of the public wishing to gain access to the teleconference, make brief oral comments, or provide a written statement to the FRRCC must contact Wayne Gieselman, Acting Designated Federal Officer, at gieselman.wayne@epa.gov, or 202-564-6614 by August 1, 2013.

General Information: The agenda and meeting materials will be available at http://www.regulations.gov under Docket ID: EPA-HQ-OA-2013-0123. General information about FRRCC can be found on its Web site at www.epa.gov/ofacmo/frrcc.

Meeting Access: For information on access or services for individuals with disabilities or to request accommodations please contact Stephanie McCoy at mccoy.stephanie@epa.gov or 202-564-7297, preferably at least 10 days prior to the meeting, to give EPA as much time as possible to process your request.

Dated: July 2, 2013.
Wayne Gieselman,
Acting Designated Federal Officer.

[FR Doc. 2013-16660 Filed 7-10-13; 8:45 am]

BILLING CODE 6560-50-P